FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

ACH Logistics Inc., 141-04 14th Avenue, Whitestone, NY 11357, Officer: Hua Guo, President (Qualifying Individual)

American West Worldwide Express, Inc., 2503 W. Rosecrans Avenue, Compton, CA 90059, Officer: James G. Taylor, CEO (Qualifying Individual)

New Connect Logistics, Inc., 4332 Cerritos Avenue, Ste. 209, Los Alamitos, CA 90720, Officers: Man Youn, President (Qualifying Individual), Andrew Y. Lee, CEO

Global Shipping Solutions, Inc., 15 Blacksmith Lane, East Northport, NY 11731, Officers: Ka M. Cho, Treasurer (Qualifying Individual), Frank Mariconda, President

Non-Vessel-Operating Common Carrier and Ocean Freight Forwarder Transportation Intermediary Applicants

Champ International Shipping Limited Liability Company, 900 Kaighns Avenue, Camden, NJ 08104, Officer: Roy B. Hibbert, President (Qualifying Individual)

WTA USA Inc., 1510 Midway Court, Ste. E203, Elk Grove Village, IL 60007, Officers: Michelle Milone, Vice President (Qualifying Individual), Paul J. Sommer, Director

Unistar Logistics, Inc., 2801 NW 74th Avenue, Ste. 203, Miami, FL 33122, Officers: Eric W. Liu, Vice President (Qualifying Individual), Jie Zeng, President

TD International Shipping Inc., 81-14 Queens Blvd., Ste. 5C, Elmhurst, NY 11373, Officers: Diana G. Petrof, President (Qualifying Individual), Constantin Petrof, Treasurer

E-Z Cargo Inc., 501 New Country Road, Secaucus, NJ 07094, Officers: Alevtina Michina, Vice President (Qualifying Individual), Michael Abramov, President

Seacrest Logistics Inc., 1500 S. Dairy Ashford, Ste. 451, Houston, TX 77077, Officers: Raphael W. Ludwick, Vice President (Qualifying Individual), Patrick I. Igbokwe, President

Trans Ocean Bulk Logistics, Inc., 3027 Marina Bay Drive, Ste. 301, League City, TX 77573, Officers: Keir McCarthey, V. P. Regulatory Affairs (Qualifying Individual), Brendan McKenna, President

Meridian Logistics LLC, 4008 Chancery Place, Ft. Wayne, IN 46804, Officer: Melanie B. Brooks, Member (Qualifying Individual)

Ariana Worldwide Maritime Inc., 1480 Charles Willard Street, Carson, CA 90746, Officer: Young B. Lee, President (Qualifying Individual)

Caribbean Enterprises, Inc., 1032 River Street, Hyde Park, MA 02136, Officers: Michael N. Cummins, President (Qualifying Individual), Stephen O. Harris, Vice President

Intercargo USA Corp., 9500 NW 108 Avenue, Miami, FL 33178, Officers: John Crespo, President (Qualifying Individual), Graciela Crespo, Secretary

AGXH Trucking LLC dba UNIX Global Logistics, 4137 Banner Drive, Houston, TX 77013, Officers: Seung K. Yang, Member (Qualifying Individual), Sunok Koh, Member

Yusen Air & Sea Service (U.S.A.) Incorporated, 377 Oak Street, Ste. 302, Garden City, NY 11530, Officer: Scott E. Corless, Sen. Vice President (Qualifying Individual)

Ocean Freight Forwarder—Ocean Transportation Intermediary Applicants

Diesel Trading Inc., 7504 NW 55 Street, Miami, FL 33166, Officers: Juan C. Savinovich, President (Qualifying Individual), Claudia S. Savinovich, Secretary

Relocation Benefits, LLC dba Relief Cargo, Arrowhead Global Logistics, 3390 Hawk Ridge Trail, Green Bay, WI 54313, Officer: Andrew L. Drescher, President (Qualifying Individual)

Dated: August 14, 2009.
Karen V. Gregory,
Secretary.

[FR Doc. E9-19903 Filed 8-18-09; 8:45 am]

BILLING CODE P